DEPARTMENT OF HEALTH AND HUMAN SERVICES

Health Resources and Services Administration

Agency Information Collection Activities: Submission to OMB for Review and Approval; Public Comment Request; Data Use Agreement and Supplement for 2014 Health Center Patient Survey

AGENCY: Health Resources and Services Administration (HRSA), Department of Health and Human Services (HHS).

ACTION: Notice.

SUMMARY: In compliance with Section 3507(a)(1)(D) of the Paperwork Reduction Act of 1995, HRSA submitted an Information Collection Request (ICR) to the Office of Management and Budget (OMB) for review and approval. Comments submitted during the first public review of this ICR will be provided to OMB. OMB will accept further comments from the public during the review and approval period.

DATES: Comments on this ICR should be received no later than November 7, 2016.

ADDRESSES: Submit your comments, including the ICR title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Data Use Agreement and Supplement for 2014 Health Center Patient Survey.

OMB No.: 0906-xxxx—NEW.

Abstract: The Health Center Patient Survey (HCPS), sponsored by HRSA's Bureau of Primary Health Care (BPHC), surveyed patients who use health centers funded under Section 330 of the Public Health Service Act. HCPS collects data on health center patients' sociodemographic characteristics, health conditions, health behaviors, access to and utilization of health care services, and satisfaction with health care. Survey results come from in-person, one-on-one interviews with patients and are nationally representative of the Health Center program patient population. To inform BPHC and HHS policy, funding, and planning decisions, the survey investigated how well HRSA-supported sites meet health care needs of the medically underserved and assessed how patients perceive the quality of their care.

The HCPS is unique because it focuses on comprehensive patient-level data. These and other features of the data will provide researchers and policymakers the capacity to empirically explore policy relevant topics relevant to the Health Center program using up-to-date information.

Prior to releasing this information, BPHC will request prospective users to fill out a “Data Use Agreement” (DUA). BPHC uses DUAs as legal binding agreements when an external entity (e.g., contractor, private industry, academic institution, other federal government agency, or state agency) requests the use of BPHC personally/organizationally identifiable data that is covered by the Privacy Act of 1974. The agreement delineates the confidentiality requirements of the Privacy Act, security safeguards, and BPHC's data use policies and procedures. The DUA will serve as both a means of informing data users of these requirements and a means of obtaining their agreement to abide by these requirements.

Need and Proposed Use of the Information: Before allowing access to unrestricted data that contains sensitive grantee and patient information that is protected by the Privacy Act of 1974, prospective users will submit a signed DUA and describe what proposed research they intend to undertake in using the dataset. A BPHC workgroup will determine whether the project is an appropriate and legitimate use of the data. The criteria to determine admissible projects will include: (1) Relevance of the topic of study to BPHC/HHS policy; (2) feasibility of the project given the parameters described in DUA supplemental; and (3) the proposed end-use of the research that will be undertaken.

Likely Respondents: Prospective researchers in academia, private contractors, and Primary Care Associations/Health Center grantee organizations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
DUA | 20 | 1 | 20 | 0.25 | 5
DUA Supplemental | 20 | 1 | 20 | 1.25 | 25
Total | 40 |  | 40 |  | 30

Jason E. Bennett,
Director, Division of the Executive Secretariat.

[FR Doc. 2016-24300 Filed 10-6-16; 8:45 am]

BILLING CODE 4165-15-P